DEPARTMENT OF COMMERCE

National Oceanic and Atmospheric Administration

[I.D. 060600B]

Fisheries of the Exclusive Economic Zone Off Alaska; Individual Fishing Quota Program

AGENCY: National Marine Fisheries Service (NMFS), National Oceanic and Atmospheric Administration (NOAA), Commerce.

ACTION: Announcement of approval of data collection.

SUMMARY: NMFS is announcing the approval of information collection requirements under the Individual Fishing Quota (IFQ) Program, first, for gear type as an additional question on the landing report and, second, for annual updates on the status of corporations, partnerships, and other collective entities holding IFQ quota shares. National Marine Fisheries Service

DATES: Effective April 1, 2002.

FOR FURTHER INFORMATION CONTACT: Patsy A. Bearden, 907-586-7008.

SUPPLEMENTARY INFORMATION: The information collection requirements for §§ 679.5(l)(2)(vi) and 679.42(j)(6), which were contained in the final rule to amend regulations implementing the IFQ Program for the Pacific halibut and sablefish fixed gear fisheries in and off Alaska (67 FR 27908, May 21, 2001) were approved by the Office of Management and Budget (OMB) on March 11, 2002, in the renewal of OMB control number 0648-0272.

Dated: March 26, 2002.
John H. Dunnigan,
Director Office of Sustainable Fisheries, National marine Fisheries Service.

[FR Doc. 02-7812 Filed 3-29-02; 8:45 am]

BILLING CODE 3510-22-S